DEPARTMENT OF ENERGY

Federal Energy Regulatory Commission

[Docket No. AD22-8-000]

Transmission Planning and Cost Management; Notice of Technical Conference

Take notice that the Federal Energy Regulatory Commission (Commission) will convene a Commissioner-led technical conference regarding transmission planning and cost management for transmission facilities developed through local or regional transmission planning processes in the above-captioned proceeding on October 6, 2022, from approximately 9:00 a.m. to 5:00 p.m. Eastern Time.

The technical conference will explore measures to ensure sufficient transparency into and cost effectiveness of local and regional transmission planning decisions, including: (1) The role of cost management measures in ensuring the cost effective identification of local transmission needs (e.g., planning criteria) and solutions to address identified local transmission and regional reliability-related transmission needs; and (2) cost considerations and the processes through which transmission developers recover their costs to ensure just and reasonable transmission rates. The technical conference will also consider potential approaches to providing enhanced cost management measures and greater transparency and oversight if needed to ensure just and reasonable transmission rates, such as a role for an independent transmission monitor to the extent it is consistent with the Commission's authority.

Specific topics for discussion at the technical conference may include: (1) How transmission owners establish local transmission planning criteria and use their local transmission planning criteria to identify local transmission needs, and the effectiveness of cost management, transparency, and oversight measures in those processes; (2) how public utility transmission providers identify transmission projects in local and regional reliability transmission planning processes; and (3) whether enhanced cost management, transparency, and oversight measures over: (a) Local and regional transmission planning processes, (b) the costs transmission owners expend on transmission facilities, (c) and the recovery of those costs through rates could help to ensure just and reasonable transmission rates.

Individuals interested in participating as panelists should submit a self-nomination email by 5:00 p.m. Eastern Time on June 16, 2022, to john.riehl@ferc.gov. Each nomination should state the proposed panelist's name, contact information, organizational affiliation, and what topics the proposed panelist would speak on.

The technical conference will be open to the public and there is no fee for attendance. An additional supplemental notice will be issued with further details regarding the technical conference agenda and logistics, as well as any changes in timing. Information will also be posted on the Calendar of Events on the Commission's website, www.ferc.gov, prior to the event.

The workshop will be transcribed and webcast. Transcripts will be available for a fee from Ace Reporting (202-347-3700). A link to the webcast of this event will be available in the Commission Calendar of Events at www.ferc.gov. The Capitol Connection provides technical support for the webcasts and offers the option of listening to the workshop via phone-bridge for a fee. For additional information, visit www.CapitolConnection.org or call (703) 993-3100.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact John Riehl at john.riehl@ferc.gov or (202) 502-6026. For information related to logistics, please contact Sarah McKinley at sarah.mckinley@ferc.gov or (202) 502-8368.

Dated: April 21, 2022.
Debbie-Anne A. Reese,
Deputy Secretary.

[FR Doc. 2022-08964 Filed 4-26-22; 8:45 am]

BILLING CODE 6717-01-P